DEPARTMENT OF ENERGY

Federal Energy Regulatory Commission

[Docket No. PF15-21-000]

Columbia Gas Transmission, LLC; Notice of Intent To Prepare an Environmental Assessment for the Planned WB Xpress Project, Request for Comments on Environmental Issues, and Notice of Public Scoping Meeting

The staff of the Federal Energy Regulatory Commission (FERC or Commission) will prepare an environmental assessment (EA) that will discuss the environmental impacts of the WB XPress Project involving construction and operation of facilities by Columbia Gas Transmission, LLC (Columbia) in Kanawha, Grant, Upshur, Randolph, Pendleton, Clay, Braxton, and Hardy Counties, West Virginia and Fairfax, Shenandoah, Warren, Clark, Fauquier, and Loudoun Counties, Virginia. The Commission will use this EA in its decision-making process to determine whether the project is in the public convenience and necessity.

This notice announces the opening of the scoping process the Commission will use to gather input from the public and interested agencies on the project. You can make a difference by providing us with your specific comments or concerns about the project. Your comments should focus on the potential environmental effects, reasonable alternatives, and measures to avoid or lessen environmental impacts. Your input will help the Commission staff determine what issues they need to evaluate in the EA. To ensure that your comments are timely and properly recorded, please send your comments so that the Commission receives them in Washington, DC on or before August 24, 2015.

If you sent comments on this project to the Commission before the opening of this docket on April 1, 2015, you will need to file those comments in Docket No. PF15-21-000 to ensure they are considered as part of this proceeding.

This notice is being sent to the Commission's current environmental mailing list for this project. State and local government representatives should notify their constituents of this planned project and encourage them to comment on their areas of concern.

If you are a landowner receiving this notice, a pipeline company representative may contact you about the acquisition of an easement to construct, operate, and maintain the planned facilities. The company would seek to negotiate a mutually acceptable agreement. However, if the Commission approves the project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically asked questions, including the use of eminent domain and how to participate in the Commission's proceedings.

Public Participation

For your convenience, there are four methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (PF15-21-000) with your submission: Kimberly D. Bose, Secretary, Federal Energy Regulatory Commission, 888 First Street NE., Room 1A, Washington, DC 20426.

(4) In lieu of sending written or electronic comments, the Commission invites you to attend the public scoping meeting(s) its staff will conduct in the project area, scheduled as follows.

FERC Public Scoping Meeting, WB XPress Project, August 12, 2015, 7:00 p.m.-9:30 p.m., Virginia Run Elementary School, 15450 Martins Hundred Drive, Centreville, VA 20120

We ¹ will begin our sign up of speakers at 6:00 p.m. The scoping meeting will begin at 7:00 p.m. with a description of our environmental review process by Commission staff, after which speakers will be called. The meeting will end once all speakers have provided their comments or at 9:30 p.m., whichever comes first. Please note that there may be a time limit of three minutes to present comments, and speakers should structure their comments accordingly. If time limits are implemented, they will be strictly enforced to ensure that as many individuals as possible are given an opportunity to comment. The meetings will be recorded by a stenographer to ensure comments are accurately recorded. Transcripts will be entered into the formal record of the Commission proceeding.

¹ “We,” “us,” and “our” refer to the environmental staff of the Commission's Office of Energy Projects.

Columbia representatives will be present one hour prior to the start of the scoping meeting to provide additional information about the project and answer questions.

Please note this is not your only public input opportunity; please refer to the review process flow chart in appendix 1.²

² The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Summary of the Planned Project

Columbia plans to construct and operate approximately 28.7 miles of various diameter pipeline, perform modifications to seven existing compressor stations, construct two new compressor stations, and uprate the maximum allowable operation pressure (MAOP) on various segments of the existing WB and VB natural gas transmission pipeline systems. According to Columbia, its project would expand the capacity of its pipeline system by 1.3 billion cubic feet per day to provide firm bi-directional transportation service along Columbia's existing Line WB natural gas pipeline system to meet growing market demands in western West Virginia and northern Virginia.

The WB XPress Project would consist of the following facilities:

West Virginia

Aboveground Facilities

• One new West Virginia Compressor Station: a new, natural gas-fired compressor station at approximately MP 0.3 of the Line WB-5 Extension in Kanawha County, West Virginia.

• Installation of new valve sites and launcher/receiver facilities along Line WB-5 in Kanawha, Grant and Clay Counties, West Virginia.

• Modifications to increase horsepower at four (4) existing Compressor Stations including Cleveland, Files Creek, Seneca, and Lost River Compressor Stations in Upshur, Randolph, Pendleton, and Hardy Counties, West Virginia, respectively.

• Modifications to existing natural gas pipeline appurtenances at the Frametown Compressor Station in Braxton County, West Virginia.

• Modifications to four existing Valve Sites including Glady Valve Site in Randolph County, West Virginia; Dink Valve Site in Clay County, West Virginia; Whitmer and Smokehole in Pendleton County, West Virginia; and one regulator station, Panther Mountain Regulator Station, in Kanawha County, West Virginia.

Pipeline Facilities

• Line WB-5 Extension: Installation of approximately 0.3 mile of new 36-inch-diameter natural gas transmission pipeline from the planned new Compressor Station to the Panther Mountain Regulator Station in Kanawha County, West Virginia.

• Line WB-22: Installation of approximately 0.6 mile of new 36-inch-diameter natural gas transmission pipeline from the proposed new West Virginia Compressor Stations to the Panther Regulator Station, ending at the proposed WB-22 Receiver Site in Kanawha County, West Virginia.

• Line WB: Generally lift and lay replacement of approximately 25.3 miles of 26-inch-diameter natural gas transmission pipeline loop and associated appurtenances in Randolph and Pendleton Counties, West Virginia.

• Line WB: Replacement of 5 sections, totaling approximately 0.3 mile of 26-inch-diameter natural gas transmission pipeline between Mileposts (MP) 134.6 and 146.4 in Pendleton, Grant, and Hardy Counties, West Virginia.

• Line WB-5: Replacement of approximately 1,185 feet (0.2 mile) of 36-inch-diameter natural gas transmission pipeline between MP 4.5 and MP 4.7 in Grant County, West Virginia.

MAOP Restoration

• Line WB-5: Incremental pressure increase of approximately 72.4 miles of the Line WB-5 Segment to restore this segment to its originally certificated MAOP of 1,000 square inch gauge (psig) in Upshur, Randolph, Pendleton, Grant and Hardy Counties, West Virginia.

Uprate Segments

• Line WB-6: Incremental pressure increase of approximately 2.4 miles of the Line WB-6 to 1,000 psig MAOP in Randolph County, West Virginia.

• Line WB-5: Incremental pressure increase of approximately 22.1 miles of the Line WB-5 Segment to 1,000 psig in Pendleton, Grant, and Hardy Counties, West Virginia.

Virginia

Aboveground Facilities

• One new, electric-driven compressor station at approximately MP 0.0 of the proposed new Line VA-1 in Fairfax County, Virginia.

• Installation of a receiver facility at the end of the proposed Line VA-1, in Fairfax County, Virginia.

• Modifications to increase horsepower at the existing Strasburg Compressor Station located in Shenandoah County Virginia, in order to increase capacity for the transportation of additional volume along Columbia's Line VB natural gas pipeline system.

• Modifications to existing natural gas pipeline appurtenances at the Loudoun Compressor Station in Loudoun County, Virginia.

• Modifications to the existing Dysart Valve Site, in Shenandoah County, Virginia and one metering station, Nineveh Meter Station, in Warren County, Virginia.

Pipeline Facilities

• Line VA-1: installation of approximately 2.0 miles of new 12-inch-diameter natural gas transmission pipeline and associated appurtenances in Fairfax County, Virginia.

MAOP Restoration

• Line VB-5: Incremental pressure increase of approximately 70.4 miles of the Line VB-5 Segment to restore this segment to its originally certificated MAOP of 1,000 psig in Shenandoah, Warren, Clark, Fauquier, and Loudoun Counties, Virginia.

The general location of the project facilities is shown in appendix 1.³

³ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Construction of the planned facilities would disturb about 605.5 acres of land, which includes 257.6 acres of existing right-of-way, 36.3 acres of proposed new permanent right-of-way, 97.1 acres of existing fenced facilities, and 16.7 acres of new proposed aboveground facilities that would be retained for operational activities. Approximately 311.6 acres of temporary workspace, staging areas, and access roads would be used temporarily during construction and would revert back to pre-construction conditions. The entire planned pipeline route parallels existing pipeline, utility, or road rights-of-way.

The EA Process

The National Environmental Policy Act (NEPA) requires the Commission to take into account the environmental impacts that could result from an action whenever it considers the issuance of a Certificate of Public Convenience and Necessity. NEPA also requires us to discover and address concerns the public may have about proposals. This process is referred to as scoping. The main goal of the scoping process is to focus the analysis in the EA on the important environmental issues. By this notice, the Commission requests public comments on the scope of the issues to address in the EA. We will consider all filed comments during the preparation of the EA.

In the EA we will discuss impacts that could occur as a result of the construction and operation of the planned project under these general headings:

• Geology and soils;

• land use;

• water resources, fisheries, and wetlands;

• cultural resources;

• vegetation and wildlife, including migratory birds;

• air quality and noise;

• endangered and threatened species;

• public safety; and

• cumulative impacts.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EA.

The EA will present our independent analysis of the issues. The EA will be available in the public record through eLibrary. Depending on the comments received during the scoping process, we may also publish and distribute the EA to the public for an allotted comment period. We will consider all comments on the EA before we make our recommendations to the Commission. To ensure we have the opportunity to consider and address your comments, please carefully follow the instructions in the Public Participation section, beginning on page 2.

With this notice, we are asking agencies with jurisdiction by law and/or special expertise with respect to the environmental issues related to this project to formally cooperate with us in the preparation of the EA.⁴ Agencies that would like to request cooperating agency status should follow the instructions for filing comments provided under the Public Participation section of this notice. Currently, the U.S. Forest Service, U.S. Army Corps of Engineers, U.S. Fish and Wildlife Service, Virginia Department of Historical Resources, Virginia Department of Game and Inland Fisheries, Virginia Department of Conservation and Recreation, Virginia Department of Environmental Quality, West Virginia Department of Environmental Protection, and West Virginia Department of Natural Resources have expressed their intention to participate as a cooperating agency in the preparation of the EA to satisfy their NEPA or other permitting responsibilities related to this project.

⁴ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the applicable State Historic Preservation Office(s) (SHPO), and to solicit their views and those of other government agencies, interested Indian tribes, and the public on the project's potential effects on historic properties.⁵ We will define the project-specific Area of Potential Effects (APE) in consultation with the SHPO(s) as the project develops. On natural gas facility projects, the APE at a minimum encompasses all areas subject to ground disturbance (examples include construction right-of-way, contractor/pipe storage yards, compressor stations, and access roads). Our EA for this project will document our findings on the impacts on historic properties and summarize the status of consultations under section 106.

⁵ The Advisory Council on Historic Preservation regulations are at Title 36, Code of Federal Regulations, Part 800. Those regulations define historic properties as any prehistoric or historic district, site, building, structure, or object included in or eligible for inclusion in the National Register of Historic Places.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

If we publish and distribute the EA, copies will be sent to the environmental mailing list for public review and comment. If you would prefer to receive a paper copy of the document instead of the CD version or would like to remove your name from the mailing list, please return the attached Information Request (appendix 2).

Becoming an Intervenor

Once Columbia files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF15-21). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: July 22, 2015.
Kimberly D. Bose,
Secretary.

[FR Doc. 2015-18484 Filed 7-28-15; 8:45 am]

BILLING CODE 6717-01-P